DEPARTMENT OF COMMERCE

International Trade Administration

[C-475-830]

Countervailing Duty Order: Stainless Steel Bar From Italy

AGENCY: Import Administration, International Trade Administration, Department of Commerce.

ACTION: Notice of countervailing duty order.

EFFECTIVE DATE: March 8, 2001.

FOR FURTHER INFORMATION CONTACT: Suresh Maniam at (202) 482-0176; Import Administration, International Trade Administration, U.S. Department of Commerce, 14th Street and Constitution Avenue, NW., Washington, DC 20230.

The Applicable Statute and Regulations

Unless otherwise indicated, all citations to the statute are references to the provisions effective January 1, 1995, the effective date of the amendments made to the Tariff Act of 1930 (the “Act”) by the Uruguay Round Agreements Act. In addition, unless otherwise indicated, all citations to the Department of Commerce's (the “Department”) regulations are references to the provisions codified at 19 CFR part 351 (April 2000).

Scope of Order

For purposes of this order, the term “stainless steel bar” includes articles of stainless steel in straight lengths that have been either hot-rolled, forged, turned, cold-drawn, cold-rolled or otherwise cold-finished, or ground, having a uniform solid cross section along their whole length in the shape of circles, segments of circles, ovals, rectangles (including squares), triangles, hexagons, octagons, or other convex polygons. Stainless steel bar includes cold-finished stainless steel bars that are turned or ground in straight lengths, whether produced from hot-rolled bar or from straightened and cut rod or wire, and reinforcing bars that have indentations, ribs, grooves, or other deformations produced during the rolling process.

Except as specified above, the term does not include stainless steel semi-finished products, cut length flat-rolled products (i.e., cut length rolled products which if less than 4.75 mm in thickness have a width measuring at least 10 times the thickness, or if 4.75 mm or more in thickness having a width which exceeds 150 mm and measures at least twice the thickness), products that have been cut from stainless steel sheet, strip or plate, wire (i.e., cold-formed products in coils, of any uniform solid cross section along their whole length, which do not conform to the definition of flat-rolled products), and angles, shapes and sections.

The stainless steel bar subject to this order is currently classifiable under subheadings 7222.11.00.05, 7222.11.00.50, 7222.19.00.05, 7222.19.00.50, 7222.20.00.05, 7222.20.00.45, 7222.20.00.75, and 7222.30.00.00 of the Harmonized Tariff Schedule of the United States (“HTSUS”). Although the HTSUS subheadings are provided for convenience and customs purposes, the written description of the scope of this order is dispositive.

Countervailing Duty Order

On January 23, 2002, the Department published in the Federal Register the Final Affirmative Countervailing Duty Determination: Stainless Steel Bar from Italy, 67 FR 3163 (January 23, 2002).

On February 28, 2002, in accordance with section 705(d) of the Act, the U.S. International Trade Commission notified the Department that a U.S. industry is “materially injured,” within the meaning of section 705(b)(1)(A)(i) of the Act, by reason of imports of stainless steel bar from Italy.

Therefore, in accordance with section 706(a)(1) of the Act, the Department will direct the Customs Service to assess, upon further advice by the Department, countervailing duties equal to the amount of the net countervailable subsidy determined to exist for entries of stainless steel bar from Italy, except for subject merchandise both produced and exported by Acciaierie Valbruna S.p.A. (“Valbruna”), Acciaiera Foroni S.p.A. (“Foroni”), Trafilerie Bedini, S.r.l. (“Bedini”), Italfond S.p.A. (“Italfond”), and Rodacciai S.p.A. (“Rodacciai”) which all received a zero or de minimis final rate. For all producers and exporters, with the exception of Valbruna, Foroni, Bedini, Italfond, and Rodacciai, countervailing duties will be assessed on all unliquidated entries of stainless steel bar from Italy entered, or withdrawn from warehouse, for consumption on or after June 6, 2001, the date of publication of the Department's preliminary determination in the Federal Register (see Preliminary Affirmative Countervailing Duty Determination and Alignment of Final Countervailing Duty Determination With Final Antidumping Duty Determination: Stainless Steel Bar From Italy, 66 FR 30414 (June 6, 2001)), and before October 4, 2001, the date the Department instructed Customs to discontinue the suspension of liquidation in accordance with section 703(d) of the Act (see also, The Statement of Administrative Action, H. Doc. No. 103-316, Vol. 1 at 874 (1994), reprinted in 1994 U.S.C.C.A.N. 3773, 4163), and on all subject merchandise entered, or withdrawn from warehouse, for consumption on or after the date of publication of this countervailing duty order in the Federal Register.

On or after the date of publication of this notice in the Federal Register, Customs officers must require, at the same time as importers would normally deposit estimated duties, cash deposits for the subject merchandise equal to the countervailing duty rates as noted below. The “All Others” rate applies to all exporters of stainless steel bar from Italy not specifically listed below:

Producer/Exporter | Percent ¹
Cogne Acciai Speciali S.r.l | 13.17
Acciaierie Valbruna S.p.A | (²)
Acciaiera Foroni S.p.A | (²)
Trafilerie Bedini S.r.l | (²)
Italfond S.p.A | (²)
Rodacciai S.p.A | (²)
All Others | 13.17
¹ Net subsidy rate.
² Excluded.

This notice constitutes the countervailing duty order with respect to stainless steel bar from Italy, pursuant to section 705(a) of the Act. Interested parties may contact the Central Records Unit, Room B-099 of the Main Commerce Building for copies of an updated list of countervailing duty orders currently in effect.

This order is published in accordance with sections 706(a) and 19 CFR 351.211.

Dated: March 5, 2002.
Faryar Shirzad,
Assistant Secretary for Import Administration.

[FR Doc. 02-5749 Filed 3-7-02; 8:45 am]

BILLING CODE 3510-DS-P